DEPARTMENT OF JUSTICE

Antitrust Division

Notice Pursuant to The National Cooperative Research and Production Act of 1993—IMS Global Learning Consortium, Inc.

Notice is hereby given that, on May 3, 2021, pursuant to Section 6(a) of the National Cooperative Research and Production Act of 1993, 15 U.S.C. 4301 et seq. (“the Act”), IMS Global Learning Consortium, Inc. (“IMS Global”) has filed written notifications simultaneously with the Attorney General and the Federal Trade Commission disclosing changes in its membership. The notifications were filed for the purpose of extending the Act's provisions limiting the recovery of antitrust plaintiffs to actual damages under specified circumstances.

Specifically, Conexus AS, Drammen, NORWAY; Dienst Uitvoering Onderwijs (DUO), Zoetermeer, NETHERLANDS; Eanes Independent School District, Austin, TX; Identity Automation, Houston, TX; Pivotal EdTech, Dublin, IRELAND; Prince William County Public Schools, Manassas, VA; Riiid Labs, San Ramon, CA; Seaford School District, Seaford, DE; Tyler Technologies, St. Louis, MO; University of Missouri, Columbia, MO; VerifyEd, Dorset, UNITED KINGDOM; University of Pennsylvania, Philadelphia, PA; and Washington State Board for Community Technical Colleges System, Olympia, WA, have been added as parties to this venture.

Also, Renaissance Learning, Wisconsin Rapids, WI; Hyland Credentials, Westlake, OH; Collective Shift/LRNG, Chicago, IL; Deer Park Independent School District, Deer Park, TX; Digital Promise, Washington, DC; IQ4, Woodcliff Lake, NJ; The Wharton School, University of Pennsylvania, Philadelphia, PA; and Washington State Board for Community Technical Colleges, Olympia, WA, have withdrawn as parties to this venture.

In addition, ClassEDU has changed its name to Class Technologies, Raleigh, NC.

No other changes have been made in either the membership or planned activity of the group research project. Membership in this group research project remains open, and IMS Global intends to file additional written notifications disclosing all changes in membership.

On April 7, 2000, IMS Global filed its original notification pursuant to Section 6(a) of the Act. The Department of Justice published a notice in the Federal Register pursuant to Section 6(b) of the Act on September 13, 2000 (65 FR 55283).

The last notification was filed with the Department on February 17, 2021. A notice was published in the Federal Register pursuant to Section 6(b) of the Act on March 10, 2021 (86 FR 13752).

Suzanne Morris,
Chief, Premerger and Division Statistics, Antitrust Division.

[FR Doc. 2021-10924 Filed 5-24-21; 8:45 am]

BILLING CODE 4410-11-P